DEPARTMENT OF TRANSPORTATION

Federal Aviation Administration

Public Notice For Waiver Of Aeronautical Land-use Assurance Aurora Municipal Airport, Aurora, IL

AGENCY: Federal Aviation Administration, DOT.

ACTION: Notice of intent of waiver with respect to land.

SUMMARY: The Federal Aviation Administration (FAA) is giving notice that a portion of the airport (a portion of Parcel E, 0.239 acres located along the north side of U.S. Highway 30 and east the intersection of U.S. Highway 30 and the airport entrance road, presently used as open land for control of FAR Part 77 surfaces and compatible land use) is not needed for aeronautical use, as shown on the Airport Layout Plan. There are no impacts to the airport by allowing the airport to dispose of the property. Parcel E was acquired on January 10, 1962, under FAA Project Number 9-11-029-5901. In accordance with section 47107(h) of title 49, United States Code, this notice is required to be published in the Federal Register 30 days before modifying the land-use assurance that requires the property to be used for an aeronautical purpose. The release of this portion of Parcel E will provide additional right-of-way for the construction of a deceleration and left turn lane on US Highway 30 at the entrance to the Aurora Municipal Airport. The improvements are for the benefit of the Aurora Municipal Airport to improve safety for left hand turns into the airport.

DATES: Comments must be received on or before September 18, 2000.

FOR FURTHER INFORMATION CONTACT: Denis Rewerts, Program Manager, 2300 East Devon Avenue, Des Plaines, IL, 60018. Telephone Number 847-294-7195/FAX Number 847-294-7046. Documents reflecting this FAA action may be reviewed at this same location or at Aurora Municipal Airport, Aurora, Illinois.

SUPPLEMENTARY INFORMATION: This notice announces that the FAA intends to authorize the disposal of the subject airport property at Aurora Municipal Airport, Aurora, Illinois. Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

Issued in Des Plaines, Illinois on August 4, 2000.
Pené A. Beversdorf,
Acting Manager, Chicago Airports District Office, FAA, Great Lakes Region.

[FR Doc. 00-20999 Filed 8-16-00; 8:45 am]

BILLING CODE 4910-13-M